ENVIRONMENTAL PROTECTION AGENCY

40 CFR Part 52

[EPA-R05-OAR-2010-0259; FRL-9245-8]

Approval and Promulgation of Implementation Plans; Ohio; Volatile Organic Compound Emission Control Measures for Lithographic and Letterpress Printing in Cleveland

AGENCY: Environmental Protection Agency (EPA).

ACTION: Proposed rule.

SUMMARY: On March 9, 2010, the Ohio Environmental Protection Agency (Ohio EPA) submitted revisions to its previously approved offset lithographic and letterpress printing volatile organic compound (VOC) rule for approval into the Ohio State Implementation Plan (SIP). This submittal revises certain compliance date and recordkeeping requirements of this rule, which was previously approved as satisfying the VOC reasonably available control technology (RACT) requirement for Ashtabula, Cuyahoga, Geauga, Lake, Lorain, Medina, Portage and Summit Counties. These rule revisions are approvable because they satisfy the requirements of RACT and the Clean Air Act (CAA).

DATES: Comments must be received on or before January 31, 2011.

ADDRESSES: Submit your comments, identified by Docket ID No. EPA-R05-OAR-2010-0259, by one of the following methods:

• http://www.regulations.gov: Follow the on-line instructions for submitting comments.

• E-mail: mooney.john@epa.gov.

• Fax: (312) 692-2551.

• Mail: John M. Mooney, Chief, Attainment Planning and Maintenance Section, Air Programs Branch (AR-18J), U.S. Environmental Protection Agency, 77 West Jackson Boulevard, Chicago, Illinois 60604.

• Hand Delivery: John M. Mooney, Chief, Attainment Planning and Maintenance Section, Air Programs Branch (AR-18J), U.S. Environmental Protection Agency, 77 West Jackson Boulevard, 18th floor, Chicago, Illinois 60604. Such deliveries are only accepted during the Regional Office's normal hours of operation, and special arrangements should be made for deliveries of boxed information. The Regional Office official hours of business are Monday through Friday, 8:30 a.m. to 4:30 p.m., excluding Federal holidays.

Instructions: Direct your comments to Docket ID No. EPA-R05-OAR-2010-0259. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I of the SUPPLEMENTARY INFORMATION section of this document.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Steven Rosenthal at (312) 886-6052 before visiting the Region 5 office.

FOR FURTHER INFORMATION CONTACT: Steven Rosenthal, Environmental Engineer, Attainment Planning and Maintenance Section, Air Programs Branch (AR-18J), U.S. Environmental Protection Agency, Region 5, 77 West Jackson Boulevard, Chicago, Illinois 60604, (312) 886-6052.

SUPPLEMENTARY INFORMATION: Throughout this document whenever “we,” “us,” or “our” is used, we mean EPA. This SUPPLEMENTARY INFORMATION section is arranged as follows:

I. What should I consider as I prepare my comments for EPA?

II. What action is EPA taking today?

III. What is the purpose of this action?

IV. What is EPA's analysis of Ohio's submitted VOC rule?

V. Statutory and Executive Order Reviews

I. What should I consider as I prepare my comments for EPA?

When submitting comments, remember to:

1. Identify the rulemaking by docket number and other identifying information (subject heading, Federal Register date, and page number).

2. Follow directions—The EPA may ask you to respond to specific questions or organize comments by referencing a Code of Federal Regulations (CFR) part or section number.

3. Explain why you agree or disagree; suggest alternatives and substitute language for your requested changes.

4. Describe any assumptions and provide any technical information and/or data that you used.

5. If you estimate potential costs or burdens, explain how you arrived at your estimate in sufficient detail to allow for it to be reproduced.

6. Provide specific examples to illustrate your concerns, and suggest alternatives.

7. Explain your views as clearly as possible, avoiding the use of profanity or personal threats.

8. Make sure to submit your comments by the comment period deadline identified.

II. What action is EPA taking today?

EPA is proposing to approve Ohio's revised offset lithographic and letterpress printing rule (OAC 3745-21-22), submitted to EPA on March 9, 2010, into the Ohio SIP. This VOC rule applies to offset lithographic and letterpress printing operations in Ashtabula, Cuyahoga, Geauga, Lake, Lorain, Medina, Portage and Summit Counties.

III. What is the purpose of this action?

The primary purpose of this action is to allow an alternative for demonstrating compliance with add-on control requirements, and to specify recordkeeping requirements, when a recipe log is maintained for each batch of fountain solution or cleaning solution.

IV. What is EPA's analysis of Ohio's submitted VOC rule?

General discussion of rule—This rule applies to offset lithographic and letterpress printing facilities in Ashtabula, Cuyahoga, Geauga, Lake, Lorain, Medina, Portage and Summit Counties, the former Cleveland-Akron 8-hour ozone nonattainment area whose actual VOC emissions, before the application of control systems, are equal to or greater than three tons of VOCs per rolling twelve-month period. Under this rule, a heatset web offset lithographic printing press, or a heatset web letterpress printing press, with potential VOC ink oil emissions from the press dryer that are greater than 25 tons per year before control must maintain dryer air pressure lower than the pressroom air pressure and have a control system that achieves 90 percent control (or 95 percent control for a control system installed after the effective date of this rule) or maintain a maximum VOC outlet concentration of 20 ppmv. This rule restricts the VOC content of fountain solutions used by offset lithographic presses, based on the type of offset lithographic press in use at a facility. Cleaning solutions used on subject lithographic or letterpress printing presses must either be at or below 70 percent by weight VOC, or be at or below ten millimeters of mercury at 20 degrees Celsius. This rule also contains the appropriate test methods for determining the VOC concentration of the exhaust stream and the VOC content of the fountain solution and cleaning solution. This rule includes methods to determine the vapor pressure of the cleaning solution. The rule also includes monitoring and recordkeeping requirements to ensure that the control systems are operating properly, to establish whether the VOC content of the cleaning solution and fountain solution are in compliance with the applicable limits, and to establish whether an offset lithographic or letterpress printing facility is subject to one or more of the control requirements of the rule. This rule is consistent with the VOC control requirements in the September 2006 EPA guidance document “Control Techniques Guidelines for Offset Lithographic Printing and Letterpress Printing.” The Control Technique Guideline documents were required to be established by the CAA and establish RACT for their respective source categories. In addition, the recordkeeping and other provisions result in enforceable control requirements.

Discussion of Rule Revisions

The rule at 3745-21-22(E)(2)(a) specifies compliance dates for offset lithographic or letterpress printing facilities that are achieving compliance by using an add-on control device. These facilities are allowed to demonstrate compliance with an emission test conducted prior to the effective date of the rule if an approved EPA test method was used, the operation of the press(es) was consistent with their current operating conditions and, if requested, the test was witnessed by the Ohio EPA. This is a reasonable alternative which allows a printing facility to take advantage of a well documented test to demonstrate compliance and is therefore approvable.

The rule at 3745-21-22(G)(3) specifies recordkeeping requirements for owners or operators maintaining a recipe log for each batch of fountain solution prepared for use in their press. This recipe log must identify all recipes used to prepare the as-applied fountain solution and clearly identify the VOC content of each concentrated alcohol substitute added to make the fountain solution as well as the proportions in which the fountain solution is mixed and the calculated VOC content of the final, mixed recipe.

The rule at 3745-21-22(G)(4) specifies recordkeeping requirements for owners or operators maintaining a recipe log for each batch of cleaning solution prepared. This recipe log must identify all recipes used to prepare the as-applied cleaning solution and clearly identify the VOC content of each cleaning solution or the VOC composite partial vapor pressure. The revisions to the recordkeeping requirements in 3745-21-22(G)(3) and 3745-21-22(G)(4) are approvable because the resulting records are sufficient to determine whether complying fountain and cleaning solutions have been used.

V. Statutory and Executive Order Reviews

Under the CAA, the Administrator is required to approve a SIP submission that complies with the provisions of the CAA and applicable Federal regulations. 42 U.S.C. 7410(k); 40 CFR Part 52.02(a). Thus, in reviewing SIP submissions, EPA's role is to approve State choices, provided that they meet the criteria of the CAA. Accordingly, this action merely approves state law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Intergovernmental relations, Nitrogen dioxide, Ozone, Reporting and recordkeeping requirements, Volatile organic compounds.

Dated: December 17, 2010.
Bharat Mathur,
Acting Regional Administrator, Region 5.

[FR Doc. 2010-32928 Filed 12-29-10; 8:45 am]

BILLING CODE 6560-50-P